DEPARTMENT OF JUSTICE

Notice of Lodging of Consent Decree Pursuant to the Comprehensive Environmental Response, Compensation, and Liability Act

In accordance with CERCLA Section 122(d)(2), 42 U.S.C. 9622(d)(2), and Departmental policy in 28 CFR 50.7, notice is hereby given that on June 14, 2005, a proposed Consent Decree in United States v. National Railroad Passenger Corporation, et al., Consolidated Civil Action Nos. 86-1094, 92-6119, 99-4835, was lodged with the United States District Court for the Eastern District of Pennsylvania.

In this action, the United States sought: recovery of environmental response costs incurred and to be incurred by the United States, all in connection with the Paoli Railyard Superfund Site, located in Paoli, PA (“Site”). The Consent Decree requires settling defendant Penn Central Corporation, now known as American Premier Underwriters, Inc., to: (1) Pay the United States the sum of $5.9 million for response costs incurred, (2) pay the U.S. Environmental Protection Agency future costs in an amount not to exceed $37,500 annually, and (3) pay the U.S. Department of Interior the sum of $500,000 in settlement of natural resource damages claims.

The Department of Justice will receive for a period of thirty (30) days from the date of this publication comments relating to the Consent Decree. Comments should be addressed to the Assistant Attorney General, Environment and Natural Resources Division, P.O. Box 7611, U.S. Department of Justice, Washington, DC 20044-7611, and should refer to U.S. v. APU, et al., D.J. Ref. #90-11-2-152C. The Consent Decree may also be examined at the Office of the United States Attorney, Eastern District of Pennsylvania, c/o Richard Metzinger, Jr., Assistant United States Attorney, 615 Chestnut Street, Philadelphia, PA 19106; and at U.S. EPA Region III, c/o Thomas Cinti, Senior Regional Counsel, 1650 Arch Street, Philadelphia, PA 19103. During the public comment period, the Consent Decree may be examined on the Department of Justice Web site: http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $4.50 for the Consent Decree (25 cents per page reproduction cost) payable to the U.S. Treasury.

Robert Brook,
Assistant Chief, Environmental Enforcement Section, Environment and Natural Resources Division.

[FR Doc. 05-12389 Filed 6-22-05; 8:45 am]

BILLING CODE 4410-15-M